DEPARTMENT OF ENERGY

Federal Energy Regulatory Commission

[Docket No. RP01-189-000]

Northern Nevada Industrial Gas Users, Complainants, v. Northwest Pipeline Corporation Respondent; Notice of Filing

December 15, 2000.

Take notice that on December 15, 2000, Eagle-Pilcher Minerals, Inc., Harrah's Reno Casino, Nevada Cement Company, Newmont Mining Corporation, Premier Chemicals, RR Donnelly & Sons Company, Sparks Nugget, Inc. and Winnemucca Farms, Inc. (jointly “Northern Nevada Industrial Users” or “NNIGU shippers”) filed a complaint under Section 5 of the Natural Gas Act requesting that Northwest Pipeline Corporation (“Northwest”) be directed to cease and desist violating the procedures for Must-Flow Operational Flow Orders set forth in section 14.15 of its FERC Gas Tariff.

NNIGU shippers allege that Northwest has violated section 14.15 by directing them to flow volumes southward on its system to create capacity by displacement for northward service on behalf of other shippers, notwithstanding the extremely high costs to NNIGU shippers under current market conditions of doing so. By denying their requests for exemption from the Must-Flow orders, Northwest has, they allege, ignored the Commission's rejection of the view that, to comply with section 14.15, shippers may be required to acquire “gas at any price.” NNIGU shippers request disposition of this issue on a “Fast Track” basis under 18 CFR 385.206(h).

NNIGU shippers also allege that section 14.15 is unjust, unreasonable, and unduly discriminatory to the extent that it requires certain shippers to flow gas to create capacity for other shippers. They request amendment of section 14.15 accordingly. NNIGU shippers further request that Northwest be directed to compensate them for losses they have incurred as a result of its tariff violations.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 27, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before December 27, 2000. Comments and protests may be filed electronically via the internet in lieu of paper. See, 18 CFR 385.2001(a)(1)(iii) and the instructions on the Commission's web site at http://www.ferc.fed.us/efi/doorbell.htm.

David P. Boergers,
Secretary.

[FR Doc. 00-32647 Filed 12-21-00; 8:45 am]

BILLING CODE 6717-01-M